DEPARTMENT OF VETERANS AFFAIRS

[OMB Control No. 2900—NEW]

Proposed Information Collection (The Veterans Metrics Initiative: Linking Program Components to Post-Military Well-Being); Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each new collection, and allow 60 days for public comment in response to the notice. This notice solicits comments on information needed to use a longitudinal study design to assess the well-being of a large sample of transitioning Veterans over time, while simultaneously examining the extent and range of program use by these Veterans over the same period.

DATES: Written comments and recommendations on the proposed collection of information should be received on or before June 3, 2016.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900—NEW” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title

The Veterans Metrics Initiative: Linking Program Components to Post-Military Well-Being.

OMB Control Number: 2900—NEW.

Type of Review: New collection.

Abstract

The concept and design of The Veterans Metrics Initiative (TVMI) were developed by a multi-disciplinary team of scientists from Department of Veterans Affairs, Department of Defense, academia, and private enterprise, under the auspices of the Henry Jackson Foundation for the Improvement of Military Medicine, to address the question: What works to help newly separated Veterans in their transition and reintegration into civilian life?

To answer this question, The Veterans Metrics Initiative will use a longitudinal study design to assess the well-being of a large sample of transitioning Veterans over time, while simultaneously examining the extent and range of program use by these Veterans over the same period. Because individual programs are numerous, widespread and often alike in design and service delivery, TVMI focuses specific and unique attention on program “components” as drivers of change. “Components” are defined as design and delivery elements that may be shared across multiple distinct programs separated geographically, administratively, or by their funding sources, but which exhibit undeniable similarities in their manner of approach to providing help. Simply, put, common components are techniques, strategies, or features used as part of a program. Components within programs include: (a) Knowledge (e.g., problem solving and coping skills); (b) process (e.g., mode: Online and face-to-face; method: Direct instruction and modeling); (c) barrier reduction (e.g., tangible support); and (d) sustainability components (e.g., social support and referrals).

Affected Public: Individuals or households.

Estimated Annual Burden

a. Baseline Survey, VA Form 10-1500194(WS)—5,625 hours.

b. 6 mo. Survey, VA Form 10-1500189(WS)—3,938 hours.

c. 12 mo. Survey, VA Form 10-1500190(WS)—3,544 hours.

d. 18 mo. Survey, VA Form 10-1500191(WS)—3,190 hours.

e. 24 mo. Survey, VA Form 10-1500192(WS)—2,871 hours.

f. 30 mo. Survey, VA Form 10-1500193(WS)—2,584 hours.

Estimated Average Burden per Respondent

a. Baseline Survey, VA Form 10-1500194(WS)—45 minutes.

b. 6 mo. Survey, VA Form 10-1500189(WS)—35 minutes.

c. 12 mo. Survey, VA Form 10-1500190(WS)—35 minutes.

d. 18 mo. Survey, VA Form 10-1500191(WS)—35 minutes.

e. 24 mo. Survey, VA Form 10-1500192(WS)—35 minutes.

f. 30 mo. Survey, VA Form 10-1500193(WS)—35 minutes.

Frequency of Response: Annually.

Estimated Annual Responses

a. Baseline Survey, VA Form 10-1500194(WS)—7,500.

b. 6 mo. Survey, VA Form 10-1500189(WS)—6,750.

c. 12 mo. Survey, VA Form 10-1500190(WS)—6,075.

d. 18 mo. Survey, VA Form 10-1500191(WS)—5,468.

e. 24 mo. Survey, VA Form 10-1500192(WS)—4,921.

f. 30 mo. Survey, VA Form 10-1500193(WS)—4,429.

By direction of the Secretary.
Kathleen M. Manwell,
Program Analyst, VA Privacy Service, Office of Privacy and Records Management, Department of Veterans Affairs.

[FR Doc. 2016-07448 Filed 4-1-16; 8:45 am]

BILLING CODE 8320-01-P